DEPARTMENT OF COMMERCE

National Oceanic and Atmospheric Administration

50 CFR Part 660

[Docket No. 210505-0101; RTID 0648-XB216]

Fisheries Off West Coast States; Modification of the West Coast Commercial Salmon Fisheries; Inseason Action #19-#21

AGENCY: National Marine Fisheries Service (NMFS), National Oceanic and Atmospheric Administration (NOAA), Commerce.

ACTION: Inseason modification of 2021 management measures.

SUMMARY: NMFS announces three inseason actions in the 2021 ocean salmon fisheries. These inseason actions modify the commercial salmon troll fisheries in the area from the U.S./Canada border to the U.S./Mexico border.

DATES: The effective dates for the inseason actions are set out in this document under the heading Inseason Actions, and remain in effect until superseded or modified.

FOR FURTHER INFORMATION CONTACT: Shannon Penna at 562-676-2148, Email: Shannon.penna@noaa.gov.

SUPPLEMENTARY INFORMATION:

Background

In the 2021 annual management measures for ocean salmon fisheries (86 FR 26425, May 14, 2021), NMFS announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council) and the appropriate State Directors (50 CFR 660.409(b)—Flexible inseason management provisions).

Management of the salmon fisheries is generally divided into two geographic areas: North of Cape Falcon (NOF) (U.S./Canada border to Cape Falcon, OR), and south of Cape Falcon (SOF) (Cape Falcon, OR, to the U.S./Mexico border). The actions described in this document affected both the NOF and SOF commercial salmon troll fishery as set out under the heading Inseason Actions.

Consultation on these inseason actions occurred on June 25, 2021. Representatives from NMFS, Washington Department of Fish and Wildlife, Oregon Department of Fish and Wildlife, California Department of Fish and Wildlife, and Council staff participated in the consultation.

These inseason actions were announced on NMFS' telephone hotline and U.S. Coast Guard radio broadcast on June 28, 2021 (50 CFR 660.411(a)(2)).

Inseason Actions

Inseason Action #19

Description of the action: Retention of halibut caught incidental to the commercial salmon troll fishery (U.S./Canada border to U.S./Mexico border) is extended past June 30, 2021, and remains in effect until superseded.

Effective date: Inseason action #19 took effect on July 1, 2021, and remains in effect until superseded.

Reason and authorization: The 2021 salmon management measures (86 FR 26425, May 14, 2021) authorize the retention of Pacific halibut caught incidental to the commercial salmon troll fishery in 2021 during April, May, and June, and after June 30, 2021, if quota remains and announced on the NMFS telephone hotline for salmon fisheries. The 2021 incidental Pacific halibut quota for the commercial salmon troll fishery is 45,198 pounds (head off) (20,501 Kilograms (kg)). Landings reported by the states, through June 25, 2021, totaled 5,170 pounds (head off) (2,345 kg), leaving 88.6 percent of the quota unharvested.

The NMFS West Coast Region Regional Administrator (RA) considered the landed catch of Pacific halibut to date and the amount of quota remaining, and determined that this inseason action was necessary to meet management goals set preseason. Inseason modification of the species that may be caught and landed during specific seasons is authorized by 50 CFR 660.409(b)(1)(ii).

Inseason Action #20

Description of the action: The July 2021 quota for the commercial salmon troll fishery from Humbug Mountain, OR, to the Oregon/California border (Oregon Klamath Management Zone (KMZ)) is increased from 200 Chinook salmon to 216 Chinook salmon through an impact-neutral rollover of unused quota from the June commercial salmon troll fishery in the same area.

Effective date: Inseason action #20 took effect on July 1, 2021, and remains in effect until superseded.

Reason and authorization: The 2021 commercial salmon troll fishery in the Oregon KMZ includes two quota managed seasons: June (300 Chinook salmon) and July (200 Chinook salmon) (86 FR 26425, May 14, 2021). The first quota season opened on June 1, 2021, and closed on June 16, 2021 (86 FR 34161, June 29, 2021) to prevent exceeding the 300 Chinook salmon quota. After the closure, 24 Chinook salmon remained uncaught. The annual management measures (86 FR 26425, May 14, 2021) provide that any remaining portion of Chinook salmon quotas in this fishery may be transferred inseason on an impact neutral basis to the next open quota period. The Council's Salmon Technical Team calculated the impact neutral transfer of 24 Chinook salmon from the June season to the July season would result in adding 16 Chinook salmon to the July quota, resulting in an adjusted July quota of 216 Chinook salmon. This quota transfer is impact neutral for spawning escapement goals for Klamath River fall-run Chinook salmon (KRFC), and Sacramento River fall-run Chinook salmon stocks and for KRFC age-4 ocean harvest rate limits. The quota transfer also preserves 50/50 KRFC harvest sharing between non-tribal and Klamath River tribal fisheries. This action did not increase overall 2021 Chinook salmon quota in the SOF commercial salmon troll fishery.

The NMFS West Coast Region RA considered the landings of Chinook salmon in the SOF commercial salmon fishery, fishery effort occurring to date as well as anticipated under the proposal, and the Chinook salmon quota remaining and determined that this inseason action was necessary to meet management and conservation objectives. Inseason modification of quotas is authorized by 50 CFR 660.409(b)(1)(i).

Inseason Action #21

Description of the action: The landing and possession limit in the commercial salmon troll fishery in the Oregon KMZ is reduced from 20 Chinook salmon to 10 Chinook salmon per vessel per landing week (Thursday-Wednesday).

Effective date: Inseason action #21 took effect on July 1, 2021, and remains in effect until superseded.

Reason and authorization: The 2021 annual management measures (86 FR 26425, May 14, 2021) for the commercial salmon troll fishery in the Oregon KMZ included a weekly landing and possession limit of 20 Chinook salmon per vessel per landing week (Thursday-Wednesday) from June 1, 2021 to July 31, 2021. Fishing effort and catch rates in June resulted in NMFS taking inseason action to avoid exceeding the June quota in the Oregon KMZ (86 FR 37249, July 15, 2021). In consideration of the smaller quota in July and anticipated fishing effort, the State of Oregon proposed reducing the weekly landing limit for July from 20 Chinook salmon to 10 Chinook salmon per vessel per landing week (Thursday-Wednesday).

The NMFS West Coast Region RA considered the landings of Chinook salmon in the SOF commercial salmon fishery, fishery effort occurring to date as well as anticipated under the proposal, and the Chinook salmon quota remaining and determined that this inseason action was necessary to meet management and conservation objectives. Inseason modification of fishing seasons is authorized by 50 CFR 660.409(b)(1)(i).

All other restrictions and regulations remain in effect as announced for the 2021 ocean salmon fisheries (86 FR 26425, May 14, 2021), as modified by previous inseason action (86 FR 34161, June 29, 2021; 86 FR 37249, July 15, 2021).

The NMFS West Coast Region RA determined that these inseason actions were warranted based on the best available information on Pacific salmon abundance forecasts and anticipated fishery effort. The states manage the fisheries in state waters adjacent to the areas of the U.S. exclusive economic zone consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act. These actions are authorized by 50 CFR 660.409, which was issued pursuant to section 304(b) of the MSA, and is exempt from review under Executive Order 12866.

Pursuant to 5 U.S.C. 553(b)(3)(B), there is good cause to waive prior notice and an opportunity for public comment on these actions, as notice and comment would be impracticable and contrary to the public interest. Prior notice and opportunity for public comment on these actions was impracticable because NMFS had insufficient time to provide for prior notice and the opportunity for public comment between the time Pacific halibut and Chinook salmon abundance, catch, and effort information was developed and fisheries impacts were calculated, and the time the fishery modifications had to be implemented in order to ensure that fisheries are managed based on the best scientific information available. As previously noted, actual notice of the regulatory action was provided to fishers through telephone hotline and radio notification. This action complies with the requirements of the annual management measures for ocean salmon fisheries (86 FR 26425, May 14, 2021), the Pacific Coast Salmon Fishery Management Plan (FMP), and regulations implementing the FMP under 50 CFR 660.409 and 660.411.

There is good cause under 5 U.S.C. 553(d)(3) to waive the 30-day delay in effective date, as a delay in effectiveness of these actions would allow fishing at levels inconsistent with the goals of the FMP and the current management measures.

Authority: 16 U.S.C. 1801 et seq.

Dated: July 22, 2021.
Jennifer M. Wallace,
Acting Director, Office of Sustainable Fisheries, National Marine Fisheries Service.

[FR Doc. 2021-15940 Filed 7-26-21; 8:45 am]

BILLING CODE 3510-22-P